DEPARTMENT OF HOMELAND SECURITY

Federal Emergency Management Agency

[Docket ID FEMA-2013-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of March 17, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
Fairbanks North Star Borough, Alaska, and Incorporated Areas
Docket No.: FEMA-B-1287
Fairbanks North Star Borough | Department of Community Planning, Borough Administrative Center, 809 Pioneer Road, Fairbanks, AK 99701.
Marin County, California, and Incorporated Areas
Docket No.: FEMA-B-1287
City of Larkspur | Planning Department, 400 Magnolia Avenue, Larkspur, CA 94939.
City of Mill Valley | Public Works Department, 26 Corte Madera Avenue, Mill Valley, CA 94941.
City of San Rafael | Public Works Department, 111 Morphew Street, San Rafael, CA 94901.
Town of Tiburon | Planning Department, 1505 Tiburon Boulevard, Tiburon, CA 94920.
Town of Corte Madera | Engineering Department, 233 Tamalpais Drive, Corte Madera, CA 94976.
Town of Fairfax | Department of Planning and Building Services, 142 Bolinas Road, Fairfax, CA 94930.
Town of Ross | Public Works Department, 31 Sir Frances Drake Boulevard, Ross, CA 94957.
Town of San Anselmo | Public Works Department, 525 San Anselmo Avenue, San Anselmo, CA 94960.
Unincorporated Areas of Marin County | Department of Public Works, 3501 Civic Center Drive, Room 304, San Rafael, CA 94913.
Brevard County, Florida, and Incorporated Areas
Docket No.: FEMA-B-1241
Cape Canaveral Port Authority | Station Director's Office, 200 George King Boulevard, Cape Canaveral, FL 32920.
City of Cape Canaveral | City Hall, 105 Polk Avenue, Cape Canaveral, FL 32920.
City of Cocoa | City Hall, 65 Stone Street, Cocoa, FL 32922.
City of Cocoa Beach | City Hall, Building Department, 2 South Orlando Avenue, Cocoa Beach, FL 32931.
City of Indian Harbour Beach | City Hall 2055 South Patrick Drive, Indian Harbour Beach, FL 32937.
City of Melbourne | City Hall, 900 East Strawbridge Avenue, Melbourne, FL 32901.
City of Palm Bay | City Hall, 120 Malabar Road Southeast, Palm Bay, FL 32907.
City of Rockledge | City Hall, Building Department, 1600 Huntington Lane, Rockledge, FL 32956.
City of Satellite Beach | City Hall, Building and Zoning Department, 565 Cassia Boulevard, Satellite Beach, FL 32937.
City of Titusville | City Hall, Department of Planning and Zoning, 555 South Washington Avenue, Titusville, FL 32796.
City of West Melbourne | City Hall, 2240 Minton Road, West Melbourne, FL 32904.
Town of Grant-Valkaria | Town Hall, 4240 U.S. Route 1, Grant-Valkaria, FL 32949.
Town of Indialantic | Town Hall, 216 5th Avenue, Indialantic, FL 32903.
Town of Malabar | Town Hall, 2725 Malabar Road, Malabar, FL 32950.
Town of Melbourne Beach | Town Hall, 507 Ocean Avenue, Melbourne Beach, FL 32951.
Town of Melbourne Village | Town Hall, 555 Hammock Road, Melbourne Village, FL 32904.
Town of Palm Shores | Town Clerk's Office, 151 Palm Circle, Palm Shores, FL 32940.
Unincorporated Areas of Brevard County | Brevard County Public Works Department, Brevard County Government Center, 2725 Judge Fran Jamieson Way, Viera, FL 32940.
Clay County, Florida, and Incorporated Areas
Docket No.: FEMA-B-1276
City of Green Cove Springs | City Hall, 321 Walnut Street, Green Cove Springs, FL 32043.
City of Keystone Heights | City Hall, 555 South Lawrence Boulevard, Keystone Heights, FL 32656.
Town of Orange Park | Town Hall, Economic and Community Development Department, 2042 Park Avenue, Orange Park, FL 32073.
Town of Penney Farms | Town Hall, 4100 Clark Avenue, Penney Farms, FL 32079.
Unincorporated Areas of Clay County | Clay County Public Works Department, 5 Esplande Avenue, Green Cove Springs, FL 32043.
Manatee County, Florida, and Incorporated Areas
Docket No.: FEMA-B-1261 and B-1275
City of Anna Maria | City Hall, 10005 Gulf Drive, Anna Maria, FL 34216.
City of Bradenton | City Hall, 101 Old Main Street, West Bradenton, FL 34205.
City of Bradenton Beach | City Hall, 107 Gulf Drive, North Bradenton Beach, FL 34217.
City of Holmes Beach | City Hall, 5801 Marina Drive, Holmes Beach, FL 34217.
Town of Longboat Key | Town Hall, 501 Bay Isles Road, Longboat Key, FL 34228.
City of Palmetto | City Hall, 516 8th Avenue, West Palmetto, FL 34221.
Unincorporated Areas of Manatee County | Manatee County Building and Development Services Department, 1112 Manatee Avenue West, Bradenton, FL 34205.
Newton County, Georgia, and Incorporated Areas
Docket No.: FEMA-B-1283
City of Covington | City Hall, 2194 Emory Street, Covington, GA 30015.
City of Oxford | City Hall, 110 West Clark Street, Oxford, GA 30054.
City of Porterdale | City Hall, 2400 Main Street, Porterdale, GA 30070.
Unincorporated Areas of Newton County | Newton County GIS Department, 1113 Usher Street, Suite 302, Covington, GA 30014.
Hancock County, Indiana, and Incorporated Areas
Docket No.: FEMA-B-1276
Town of Cumberland | Municipal Building, 11501 East Washington Street, Cumberland, IN 46229.
Town of Fortville | Municipal Building, 714 East Broadway, Fortville, IN 46040.
Unincorporated Areas of Hancock County | Hancock County Annex, 111 South American Legion Place, Greenfield, IN 46140.
Jay County, Indiana, and Incorporated Areas
Docket No.: FEMA-B-1282
City of Portland | Jay County Department of Building and Planning, Community Resource Center, Suite E, 118 South Meridian Street, Portland, IN 47371.
Town of Pennville | Town Hall, 110 North Washington Street, Pennville, IN 47369.
Town of Redkey | Town Hall, 8922 West State Road 67, Redkey, IN 47373.
Town of Salamonia | Jay County Department of Building and Planning, Community Resource Center, Suite E, 118 South Meridian Street, Portland, IN 47371.
Unincorporated Areas of Jay County | Jay County Department of Building and Planning, Community Resource Center, Suite E 118 South Meridian Street, Portland, IN 47371.
Coos County, Oregon, and Incorporated Areas
Docket No.: FEMA-B-1282
City of Bandon | Planning Department, 555 Highway 101, Bandon, OR 97411.
City of Coos Bay | Public Works and Development Department, 500 Central Avenue, Coos Bay, OR 97420.
City of Coquille | City Hall, 851 North Central Boulevard, Coquille, OR 97423.
City of Lakeside | City Hall, 915 North Lake Road, Lakeside, OR 97449.
City of Myrtle Point | City Hall, 424 5th Street, Myrtle Point, OR 97458.
City of North Bend | City Hall, 835 California Street, North Bend, OR 97459.
City of Powers | City Hall, 275 Fir Street, Powers, OR 97466.
Unincorporated Areas of Coos County | Coos County Courthouse, 225 North Adams Street, Coquille, OR 97423.
Kleberg County, Texas, and Incorporated Areas
Docket No.: FEMA-B-1282
City of Kingsville | City Hall 200, East Kleberg Avenue, Kingsville, TX 78363.
Unincorporated Areas of Kleberg County | Kleberg County Courthouse, Floodplain Administrator's, Office 700 East Kleberg Avenue, Kingsville, TX 78363.
Brown County, Wisconsin, and Incorporated Areas
Docket No.: FEMA-B-1310
The Oneida Nation of Wisconsin | Norbert Hill Center, North 7210 Seminary Road, Oneida, WI 54155.
Village of Hobart | Hobart Village Hall, 2990 South Pine Tree Road, Hobart, WI 54155.
Rusk County, Wisconsin, and Incorporated Areas
Docket No.: FEMA-B-1293
City of Ladysmith | City Hall, 120 Miner Avenue West, Ladysmith, WI 54848.
Unincorporated Areas of Rusk County | Rusk County Courthouse, 311 East Miner Avenue, Ladysmith, WI 54848.
Village of Bruce | Village Hall, 100 West River Avenue, Bruce, WI 54819.
Village of Conrath | Village Post Office, W7101 Main Street, Conrath, WI 54731.
Village of Glen Flora | Village Hall, N5746 Cedar Street, Glen Flora, WI 54526.
Village of Hawkins | Village Hall, 509 Main Street, Hawkins, WI 54530.
Village of Ingram | Village Hall, N5970 State Highway 73, Ingram, WI 54526.
Village of Sheldon | Village Office, W5594 Main Street, Sheldon, WI 54766.
Village of Tony | Village Hall, N5377 Maple Street, Tony, WI 54563.
Village of Weyerhauser | Village Hall, N3840 Second Street, Weyerhaeuser, WI 54895.

(Catalog of Federal Domestic Assistance No. 97.022, “Flood Insurance.”)

Dated: December 18, 2013.
Roy E. Wright,
Deputy Associate Administrator for Mitigation, Department of Homeland Security, Federal Emergency Management Agency.

[FR Doc. 2014-01801 Filed 1-29-14; 8:45 am]

BILLING CODE 9110-12-P